DEPARTMENT OF TRANSPORTATION

Pipeline and Hazardous Materials Safety Administration

[Docket No. PHMSA-2013-0124 Notice No. 13-20]

Paperless Hazard Communications Pilot Program

AGENCY: Pipeline and Hazardous Materials Safety Administration (PHMSA).

ACTION: Notice and request for comments.

SUMMARY: In accordance with the Paperwork Reduction Act of 1995, PHMSA invited comments on an information collection under Office of Management and Budget (OMB) Control No. 2137-0034 entitled, “Hazardous Materials Shipping Papers and Emergency Response Information,” pertaining to the Paperless Hazard Communications Pilot Program. In the precursor 60-Day Notice (Docket No. PHMSA-2013-0124, Notice No. 13-7, Federal Register Vol. 78, No. 139, FR Doc. 2013-17363, filed July 18, 2013), PHMSA invited volunteers from organizations representing fire and other emergency responders, law enforcement, and other regulated entities (i.e., shippers and carriers who transport hazardous materials (HM) by air, highway, rail, and water) to participate in a pilot program to evaluate the effectiveness of paperless hazard communications systems and to comment on and participate in an information collection activity associated with the pilot program. This 30-Day Notice acknowledges comments received regarding the 60-Day Notice (Docket No. PHMSA-2013-0124, Notice No. 13-7, Federal Register Vol. 78, No. 139, FR Doc. 2013-17363, filed July 18, 2013) and provides details on the four information collection efforts to be conducted under the pilot program.

DATES: Interested persons are invited to submit comments on or before December 26, 2013.

ADDRESSES: Send comments by mail to the Office of Information and Regulatory Affairs, Office of Management and Budget, Attention: Desk Officer for DOT-PHMSA, 725 17th Street NW., Washington, DC 20503, by fax, 202-395-5806, or by email, OIRA_Submission@omb.eop.gov.

We invite commenters to address the following issues: (1) Whether the proposed collection of information is necessary for the proper performance of the functions of PHMSA, including whether the information will have practical utility; (2) the accuracy of PHMSA's estimate of the burden of the proposed information collection; (3) ways to enhance the quality, utility, and clarity of the information to be collected; and (4) ways to minimize the burden of the collection of information on respondents, including the use of automated collection techniques or other forms of information technology.

A comment to OMB is most effective if OMB receives it within 30 days of publication.

Instructions: All submissions must include the agency name and docket number for this notice at the beginning of the comment. To avoid duplication, please use only one of these three methods.

Docket: For access to the dockets to read background documents or comments received, go to http://www.regulations.gov or DOT's Docket Operations Office (see ADDRESSES).

Privacy Act: Anyone is able to search the electronic form of any written communications and comments received into any of our dockets by the name of the individual submitting the document (or signing the document, if submitted on behalf of an association, business, labor union, etc.). You may review DOT's complete Privacy Act Statement in the Federal Register published on April 11, 2000 (65 FR 19477) or you may visit http://www.gpo.gov/fdsys/pkg/FR-2000-04-11/pdf/00-8505.pdf.

FOR FURTHER INFORMATION CONTACT: Luciana DiGhionno, U.S. Department of Transportation, Engineering and Research Division (PHH-23), Pipeline and Hazardous Materials Safety Administration, 1200 New Jersey Avenue SE., East Building, 2nd Floor, Washington, DC 20590-0001, Telephone (202) 366-7611. Requests for a copy of the information collection should be directed to T. Glenn Foster, U.S. Department of Transportation, Standards and Rulemaking Division (PHH-12), Pipeline and Hazardous Materials Safety Administration, 1200 New Jersey Avenue SE., East Building, 2nd Floor, Washington, DC. 20590-0001, Telephone (202) 366-8553.

SUPPLEMENTARY INFORMATION:

1. History of and Current Regulatory Requirements for Shipping Papers

The Hazardous Materials Regulations (HMR; 49 CFR Parts 171-180) require a person who offers HM for transportation in commerce to describe the HM on a shipping paper in the manner required in 49 CFR Part 172, Subpart C. The shipping paper requirements identify key hazard communication information (i.e., UN number, proper shipping name, hazard class, packing group, type and quantity of packaging, and emergency response telephone number). Unless an exception from the shipping paper requirements is provided in the regulations, a paper copy of the shipping paper must accompany HM during transportation. A shipping paper includes “a shipping order, bill of lading, manifest or other shipping document serving a similar purpose and containing the information required by §§ 172.202, 172.203, and 172.204” (49 CFR 171.8, definition of “shipping paper”). A hazardous waste manifest “may be used as the shipping paper” if it contains all the information required by Part 172, Subpart C (49 CFR 172.205(h)). The rationale behind a paper-based system is to convey the necessary information in a consistent manner that is widely understood and accepted by all regulated entities, law enforcement, and emergency responders.

In 1994, Congress amended the Federal HM transportation law to require that, after a hazardous material “is no longer in transportation,” all offerors and carriers of a hazardous material must retain the shipping paper “or electronic image thereof for a period of 1 year to be accessible through their respective principal places of business” (49 U.S.C. 5110(e), added by Pub. L. 103-311, Title I, § 115, 108 Stat. 1678 (Aug. 26, 1994)). An electronic image includes an image transmitted by a facsimile (FAX) machine, an image on the screen of a computer, or an image generated by an optical imaging machine. In 2002, the Research and Special Programs Administration (the predecessor to PHMSA) issued a final rule further amending parts 172, 174, 175, and 176 of the HMR regarding the retention and information requirements associated with shipping papers. The 2002 final rule required shippers and carriers to retain a copy of each HM shipping paper, or an electronic image thereof, for a period of 375 days after the date the HM is accepted by a carrier. Consideration for allowing the use of electronic communication while HM are actually in transportation is the next step in the evolution of hazard communication.

2. Authority Granted Under MAP-21

Section 33005 of the “Moving Ahead for Progress in the 21st Century Act” (MAP-21) authorizes PHMSA to conduct a pilot program to evaluate the feasibility and effectiveness of using paperless hazard communications systems. In accordance with MAP-21, in conducting the pilot projects, PHMSA may not waive the current shipping paper requirements and must include at least one rural area in the pilot projects. Upon completion of the pilot projects, PHMSA must prepare a report to be delivered by the Secretary to the Committee on Commerce, Science, and Transportation of the U.S. Senate and to the Committee on Transportation and Infrastructure of the U.S. House of Representatives by October 1, 2014. The report must provide: (1) A detailed description of the pilot projects; (2) an evaluation of each pilot project to include an evaluation of the performance of the e-systems; (3) an assessment of the safety and security impacts of using electronic HM (e-HM) communication systems (e-systems) to include the impact on the public, emergency responders, law enforcement, and on conducting inspections and investigations; (4) an analysis of the associated benefits and costs of using e-systems for each mode of transportation; and (5) a recommendation whether e-systems should be permanently incorporated into the Federal hazmat regulations.

3. Goal, Scope, and Intent of the Pilot Program

Beginning in 2007, PHMSA initiated actions to implement paperless hazard communications. PHMSA strongly believes, through its prior efforts and activities, paperless hazard communication is possible and that this pilot program will demonstrate the capabilities of e-systems. In the precursor 60-Day Notice (Docket No. PHMSA-2013-0124, Notice No. 13-7, Federal Register Vol. 78, No. 139, FR Doc. 2013-17363, filed July 18, 2013), PHMSA described a strategy for conducting the pilot projects that will enable PHMSA to evaluate paperless hazard communication systems (e-systems) capabilities from a real-world perspective. Key aspects of this strategy include the following:

• Determining if e-systems are a feasible and effective means of providing hazard communication by evaluating their use while shipping HM from point of origin to final destination using different transportation conveyances (i.e., trucks, railcars, maritime vessels, and airplanes) and during inspection and emergency response simulations. (Note: For purposes of the pilot tests conducted under this project, “simulation” refers to planned exercises designed solely to test the feasibility and effectiveness of using e-systems to communicate the needed HM shipping paper information during project-related HM inspections and emergency response scenarios among pilot test participants. The scope of the simulations will be defined by project data collection needs for testing electronic communication of shipping paper information. Emergency response simulations will not entail mimicking a full response to a HM incident, and as such will not involve testing first responder procedures, equipment, or resources not related to the communication of shipping paper information.)

• Using the information gathered during the pilot projects (tests) to assess the level of safety and security, as well as the associated benefits and costs, of e-systems as compared to the current HM shipping paper requirements.

• Conducting the tests without disrupting the normal flow of commerce.

• Allowing emergency response providers and law enforcement officials to continue to perform their duties and respective roles during the simulations according to existing emergency and inspection requirements, procedures, and policies.

• Abiding by current HMR hardcopy shipping paper requirements while simultaneously testing e-system hazard communications capabilities.

In the 60-Day Notice, PHMSA explained its process and criteria for evaluating all pilot test volunteers and selecting those participants that satisfy the pilot test qualification requirements, meet the criteria specified in MAP-21, and are best able to aid in testing a variety of scenarios. PHMSA encouraged shippers, carriers, law enforcement, and emergency responders interested in participating in the pilot projects to provide statements of interest via comments to the 60-Day Notice.

4. Pilot Test Volunteer Participants and Comments to the Web Site Announcement and 60-Day Notice

PHMSA indicated it was seeking shippers, carriers, law enforcement personnel, and emergency responders who may be interested in volunteering to participate in the pilot projects via an April 2013 Web site announcement and through the 60-Day Notice.

In reply to an April 2013 announcement posted on the HM-ACCESS Web site entitled, “Defining the HM ACCESS Pilot Test,” PHMSA received 64 email responses representing 60 companies/agencies/organizations; of the 64, four (ID Nos. 2, 4, 26, and 27) were double responses (i.e., two entities representing the same agency/company/organization response). Of the 60 responding companies/agencies/organizations, 54 expressed interest in participating in the pilot tests, four (ID Nos. 6, 24, 32, and 33) indicated they do not want to actively participate, and two (ID Nos. 42 and 47) were unclear as to the purpose of their responses.

A total of twenty-eight (28) comments were posted to the 60-Day Notice, with one (ID No. 67) responding twice with the same message. Of the twenty-seven (27) responding agencies/companies/organizations, four (ID Nos. 61, 65, 70, and 77) had previously expressed interest in participating in the pilot tests in their responses to the April 2013 Web site announcement, and four (ID Nos. 59, 63, 75, and 81) indicated they do not want to actively participate in the pilot tests, but provided comments on key aspects of the HM-ACCESS initiative.

The data collected during the pilot tests and information collection efforts is intended to ensure that the evaluation and feasibility report required under MAP-21 focuses on results and includes quantitative data on the recommendation for possible implementation of e-systems into the Federal HM transportation safety program. This data and information will enable PHMSA to more accurately assess the safety and security impacts of using e-systems and to analyze the associated benefits and cost of using the e-systems.

The following table provides a list of all respondents (Note: The ID Number (No.), unique to each responding agency/company/organization, was assigned by PHMSA in the order PHMSA reviewed the responses.):

ID No. | Company name | Address associated with comment | Offer to volunteer | Response venue | Category
1 | Con-way Freight | Michigan | YES | Web Posting | 1
2 | United Air Lines | Illinois | YES | Web Posting | 1
3 | Savage Services | Utah | YES | Web Posting | 1
4 | PSC | Pennsylvania and Texas | YES | Web Posting | 1
5 | Tellus Operating Group, LLC | Mississippi | YES | Web Posting | 1
6 | DG Consulting International LLC | New Hampshire | NO | Web Posting | 2
7 | Whitehurst Paving Company | Virginia | YES | Web Posting | 1
8 | American President Lines, Limited (International-Americas Region) | Arizona | YES | Web Posting | 1
9 | Coastal Transport Company, Incorporated | Texas | YES | Web Posting | 1
10 | Spill Center, Incorporated | Massachusetts | YES | Web Posting | 1
11 | Reactives Management Corporation | Virginia | YES | Web Posting | 1
12 | GBK Gefahrgut Buro Gmbh | Not Provided (International headquarters in Germany) | YES | Web Posting | 1
13 | ICC Compliance Center | Not Provided (offices in Ohio, Texas, and New York) | YES | Web Posting | 1
14 | HAZMATEAM, Incorporated | Not Provided | YES | Web Posting | 1
15 | Environmental Resource Center | North Carolina | YES | Web Posting | 1
16 | Project Consulting Services, Incorporated | Texas | YES | Web Posting | 1
17 | Walkerville Area Fire and Rescue | Michigan | YES | Web Posting | 1
18 | Hopkinsville Fire Department | Kentucky | YES | Web Posting | 1
19 | Florida Division of Emergency Management | Florida | YES | Web Posting | 1
20 | Grand Junction Fire Department | Colorado | YES | Web Posting | 1
21 | San Diego Fire-Rescue Department | California | YES | Web Posting | 1
22 | Michigan Department of Community Health | Michigan | YES | Web Posting | 1
23 | Madonna University | Michigan | YES | Web Posting | 1
24 | Texas Tech University Health Sciences Center | Texas | NO | Web Posting | 2
25 | Federal Aviation Administration | District of Columbia | YES | Web Posting | 1
26 | Federal Motor Carrier Safety Administration | Texas | YES | Web Posting | 1
27 | Federal Railroad Administration | District of Columbia | YES | Web Posting | 1
28 | Port of Tacoma | Washington | YES | Web Posting | 1
29 | Florida Highway Patrol, Florida Department of Highway Safety and Motor Vehicles | Florida | YES | Web Posting | 1
30 | New Mexico State Police | New Mexico | YES | Web Posting | 1
31 | United States Coast Guard | California | YES | Web Posting | 1
32 | Unknown (Daniel Gregory) | Not Provided | NO | Web Posting | 2
33 | Unknown (Doug Shackelford) | Not Provided | NO | Web Posting | 2
34 | Bombardier | Illinois | YES | Web Posting | 1
35 | Mercedes-Benz USA, LLC | New Jersey | YES | Web Posting | 1
36 | Huntsman | Not Provided (headquarters in Texas) | YES | Web Posting | 1
37 | Interline Brands, Incorporated | Florida | YES | Web Posting | 1
38 | Citgo | Not Provided (headquarters in Texas) | YES | Web Posting | 1
39 | Air Liquide America Specialty Gases | Colorado | YES | Web Posting | 1
40 | Fairchild Semiconductor | Maine | YES | Web Posting | 1
41 | Raytheon Company | Arizona | YES | Web Posting | 1
42 | Midstream Pipeline Safety/CenterPoint Energy | Louisiana | Unknown (reply is ambiguous) | Web Posting | 3
43 | Kinder Morgan, Incorporated | Not provided (headquarters in Texas) | YES | Web Posting | 1
44 | Hartman Brothers, Incorporated | Colorado | YES | Web Posting | 1
45 | Maine Drilling & Blasting | New Hampshire | YES | Web Posting | 1
46 | Master Meter Program, Pipeline Safety, State Board of Public Utilities | New Jersey | YES | Web Posting | 1
47 | Garner | Texas | Unknown (reply is ambiguous) | Web Posting | 3
48 | Combined Accident Reduction Efforts, Incorporated | Texas | YES | Web Posting | 1
49 | Blue Rock | Colorado | YES | Web Posting | 1
50 | United Steel Workers | Pennsylvania | YES | Web Posting | 1
51 | Unknown (Michael Wagner) | Not Provided | YES | Web Posting | 1
52 | Unknown (Carl Zebrocki) | Not Provided | YES | Web Posting | 1
53 | Unknown (Tom Wray) | Not Provided | YES | Web Posting | 1
54 | Unknown (Don Shafer) | Not Provided | YES | Web Posting | 1
55 | AristaTek | Wyoming | YES | Web Posting | 1
56 | Intrado | Colorado | YES | Web Posting | 1
57 | J.B. Hunt | Arkansas | YES | 60-Day Notice | 1
58 | CHEMTREC | Virginia | YES | 60-Day Notice | 1
59 | Unknown (Edward Larkin) | Florida | NO | 60-Day Notice | 2
60 | EHSSE | Missouri | YES | 60-Day Notice | 1
61 | Norfolk Southern Corporation | Georgia | YES | 60-Day Notice and Web Posting | 1
62 | Nordstrom Direct | Iowa | YES | 60-Day Notice | 1
63 | International Association of Fire Chiefs | Virginia | NO | 60-Day Notice | 2
64 | Turnkey Technical Services | Tennessee | YES | 60-Day Notice | 1
65 | HMF2, LLC | California | YES | 60-Day Notice and Web Posting | 1
66 | Tri-County Fire Department | Texas | YES | 60-Day Notice | 1
67 | Qualified Carriers | New Jersey | YES | 60-Day Notice | 1
68 | Cherry Hill Fire District #13 | New Jersey | YES | 60-Day Notice | 1
69 | Mid Columbia Fire and Rescue | Oregon | YES | 60-Day Notice | 1
70 | Maryland Department of the Environment | Maryland | YES | 60-Day Notice and Web Posting | 1
71 | Seattle Fire Department | Washington | YES | 60-Day Notice | 1
72 | Indiana State Police Commercial Vehicle Enforcement Division | Indiana | YES | 60-Day Notice | 1
73 | Fire Department, City of New York | New York | YES | 60-Day Notice | 1
74 | Unknown (Raymond Lewis) | Ohio | YES | 60-Day Notice | 1
75 | American Trucking Association | Virginia | NO | 60-Day Notice | 2
76 | Unknown (Daniel Collins) | Ohio | YES | 60-Day Notice | 1
77 | AllTransPack, Incorporated (ATP) | Virginia | YES | 60-Day Notice and Web Posting | 1
78 | CSX Transportation | Florida | YES | 60-Day Notice | 1
79 | Union Pacific | Nebraska | YES | 60-Day Notice | 1
80 | Cardinal Health Nuclear Pharmacy Services | Ohio | YES | 60-Day Notice | 1
81 | Commercial Vehicle Safety Alliance | Maryland | NO | 60-Day Notice | 2
82 | Labelmaster Services | Illinois | YES | 60-Day Notice | 1
83 | Quality Distribution Incorporated | Florida | YES | 60-Day Notice | 1

The comments posted in response to both the Web site announcement and the 60-Day Notice are organized into three categories, based on the information provided in the comments and information publically available on agency/company/organization Web sites. The three categories are as follows:

Category 1—88% of the entities, those expressing interest in participating in the pilot tests.

Category 2—10% of the entities, those not wanting to participate in the pilot tests but commenting on use of e-systems; confirming the importance of certain aspects of e-communication/validating observations in stakeholder information papers; and/or providing comments outside of the defined data collection and more pertinent to anticipatory regulatory changes.

Category 3—2% of the entities, those submitting only their contact information, and entities posting unclear comments regarding pilot test participation.

No comments were posted to the 60-Day Notice regarding the intended types of data collection questions.

Category 1: Entities Expressing Interest in Participating in the Pilot Tests

73 (88%) of the 83 total entities expressed interest in participating in the pilot tests. These 73 entities include ten (10) emergency response organizations, three (3) Federal government agencies, three (3) state/local government agencies, five (5) law enforcement agencies (one Federal agency, three state agencies, and one port authority), one (1) university, thirteen (13) carriers, five (5) shippers, nine (9) companies that are both shippers and carriers, one (1) association, one (1) union, eleven (11) consultants, two (2) technology vendors, five (5) companies that function as both vendors and consultants, and four (4) unknowns. These 73 entities are primarily located in the eastern half of the U.S. and in the South; a few entities are located in the Southwest, Northwest, and at international locations. Many of the entities have locations in more than one area of the U.S. ID No. 82, a company that functions as both a vendor and consultant, expressed interest in participating in the pilot projects as a consortium of parties to demonstrate the capability of the technological solution that it developed in conjunction with these partners.

Category 2: Non-Participant Volunteer Entities Confirming the Importance of E-Communication Aspects/Validating Stakeholder Information Paper Observations

Eight (10%) of the 83 total entities indicated they do not wish to actively participate in the pilot tests. Collectively, these entities posted comments that indicated they (a) want to continue to receive information on the HM-ACCESS effort; (b) want to participate in a different PHMSA training event (i.e., submitted in error in response to HM-ACCESS); (c) agree with the importance of a particular aspect of the HM-ACCESS initiative; and/or (d) want to emphasize the importance of particular observations made to date regarding HM-ACCESS. In some cases, the comments are not directed to and are outside of the scope of the defined data collection, and instead are more pertinent to anticipatory regulatory changes. Comments from these eight entities included the following:

• Two (ID Nos. 6 and 24) indicated they wanted to receive update information on the HM-ACCESS effort as it becomes available. PHMSA will keep these entities on the HM-ACCESS information distribution email notifications.

• One (ID No. 32) was submitted in error; this entity wanted to register for a pipeline hazard safety training event. PHMSA will keep this entity on the HM-ACCESS information distribution email notifications.

• One (ID No. 33) originally wanted to volunteer to participate in the pilot tests, but later rescinded the request. PHMSA will keep this entity on the HM-ACCESS information distribution email notifications.

• One (ID No. 59) indicated its support of PHMSA's method of allowing stakeholders to assist in testing the viability of using e-HM shipping papers as an alternative to hardcopy HM shipping papers rather than simply issuing a regulatory change, and also affirmed its support of changes that reduce paperwork and clutter. PHMSA recognizes these comments as being consistent with the current HM-ACCESS methodology and pilot test approach.

• One (ID No. 63) emphasized the importance of HM information fitting the intended need and being uniform and scalable while not including extraneous information; being provided in a standard format using cost-effective, standardized tools and data; and being accurate as well as immediately available. As described in the 60-Day Notice, the goal of the paperless hazard communications pilot program is to determine if e-systems are a feasible and effective means of providing hazard communication; the pilot projects will evaluate the feasibility of using e-systems to collect and convey the same information that is currently required on a paper copy of an HM shipping document as described in 49 CFR 172, Subpart C. Evaluation of shipping paper information requirements (content, format, etc.) is outside the scope of HM-ACCESS. This entity also confirmed PHMSA's proceeding with a performance-based regulatory approach that provides for an equivalent or higher level of safety, and commented that e-shipping paper information used for inspections should be instantaneously viewable, thus reducing inspectors' wait time. PHMSA reiterates that the pilot tests will study the performance, safety and security impacts, and the associated benefits and costs of using e-systems for HM shipments, without disrupting the normal flow of commerce, and that the time needed to send and receive the e-information will be one of the data fields evaluated during the tests. The entity also commented on the need for training on electronic tools used to comply with e-shipping papers; the lack of availability of devices for receiving e-HM information in the emergency response community; and allowing shippers to have the capability for data entry and error correction. Although not pertinent to the data collection as defined within the 60-Day Notice, PHMSA recognizes the entity's equipment, training, and data entry concerns. PHMSA encourages the entity to participate in the impact analysis data collection for inclusion in the evaluation and feasibility report required under MAP-21 and to make recommendations for implementing e-systems into the Federal HM transportation safety program. The entity emphasized e-shipping papers should not result in the public safety sector incurring additional equipment, data access, connectivity, etc., costs, and that the format and content of the electronic HM data must meet the various needs and levels of responder operational knowledge and capabilities. As described in the 60-Day Notice, PHMSA seeks volunteer pilot test participants who currently possess e-system(s) capable of managing and communicating the HM shipping paper information at their own expense, and who possess their own equipment and personnel and/or contractor resources necessary to transport HM shipments. PHMSA is not asking companies to purchase additional equipment to support the pilot tests.

• One (ID No. 75) commended PHMSA on its implementation of the HM-ACCESS pilot program consistent with MAP-21 requirements. This entity emphasized the importance of using e-shipping papers to supplement, rather than replace, hardcopy shipping papers until the feasibility and effectiveness of using e-shipping papers to communicate with law enforcement and emergency responders are proven. This commenter also stressed the importance of allowing carriers the choice to use hardcopy shipping papers for the foreseeable future, as long as the required information is provided and safety is maintained. PHMSA reiterates that one strategic aspect of the pilot tests is to abide by current HMR hardcopy shipping paper requirements while simultaneously testing e-system hazard communications capabilities. Hardcopy shipping papers will accompany HM shipments during the pilot tests; the only difference during the inspection and emergency response simulations will be that the shipping paper information will be communicated electronically. The inspectors and emergency responders will conduct each simulation following their established inspection and response protocols using their own existing equipment and resources. This entity also encouraged leveraging pre-existing communications standards, such as the Federal Motor Carrier Safety Administration's chosen one for transmitting electronic driver logging information in the highway mode, for law enforcement and emergency responders. PHMSA has been communicating with its DOT modal counterparts and other Federal agencies to coordinate similar electronic HM data collection efforts. The entity suggested that PHMSA design the communications standard so that any device capable of receiving information from an electronic logging device would similarly be capable of receiving information from any future paperless hazard communications system, thereby lowering technology costs and facilitating acceptance by the HM transportation industry. It is not PHMSA's intention at this time either to develop an e-communications standard or to test vendors of e-communications technologies or products; rather, PHMSA will conduct the pilot tests to evaluate the feasibility of using e-systems to convey the same HM information that is contained on a paper copy of a shipping document.

• One (ID No. 81) indicated its support of PHMSA's Paperless Hazard Communications Pilot Program, and recommended that PHMSA explore the development and management of a uniform e-system that improves HM recognition and identification without compromising the safety of law enforcement and first responders. As previously stated, the HM-ACCESS effort will test and evaluate the feasibility of using e-systems to convey the same HM information that is contained on a paper copy of a shipping document. PHMSA is not looking to develop a uniform e-system at this time; such a substantial level of effort is beyond the scope of the MAP-21 mandate, and would most likely require that stakeholders purchase additional equipment and resources to utilize the uniform e-system. The entity also commented that drivers must be informed when HM are present and of the method(s) for obtaining e-shipping paper information for inspection and emergency response purposes. Drivers are currently required to meet the training requirements stipulated in 49 CFR 177, Subpart A; any future HM transportation regulation amendments allowing for the use of e-shipping paper information would likely address the methods drivers should use to obtain e-shipping paper information. This entity also emphasized (1) the importance that devices communicating e-shipping paper information have the capability of providing inspectors and first responders the shipping paper information required by 49 CFR Part 172, Subpart C; (2) e-shipping papers must be carried and be accessible in the manner described in 49 CFR 177.817(e); and (3) the e-shipping papers included in the pilot tests should batch with the corresponding paper copy. PHMSA agrees with the importance of these e-shipping paper aspects, and reaffirms the goal of the paperless hazard communications pilot program; namely, to determine if e-systems are a feasible and effective means of providing hazard communication that provides an equivalent level of safety and security as compared to the current shipping paper requirements. Finally, the entity recognized the burden estimate PHMSA calculated of up to one hour for each inspector who participates in the pilot tests to complete the inspection simulation questions; commented that the additional time spent completing the questions would reduce the number of commercial motor vehicle inspections conducted by the inspection agency; and recommended PHMSA find funding for agencies participating in the pilot tests to offset pilot test participation costs. PHMSA understands that this information collection effort may impose a burden on respondents; however, no funding is available to reimburse participants who participate in the HM-ACCESS pilot test and data collection efforts. As previously described, participation in the pilot tests and information collection efforts is strictly voluntary, and PHMSA will develop the information collection utilizing on-line questions, with answers to questions designed to be “yes,” “no,” or multiple choice as much as possible. The information obtained during the pilot tests and information collection efforts will assist PHMSA in improving safety, hazard communication products, and/or hazard communication materials, and in potentially reducing current burden hours for completing shipping papers.

Category 3: Entities Submitting Only Their Contact Information or Unclear Comments

Two (2%) of the 83 entities (ID Nos. 42 and 47) responded to the April 2013 Web site announcement that they were interested in the “hazard communication system” or in “paperless updates.” These entities did not state they wanted to participate in the pilot projects. PHMSA will keep these entities on the HM-ACCESS information distribution email notifications.

5. Criteria Used for Selecting Pilot Project Participants

PHMSA will evaluate the entities volunteering to participate in the pilot tests and select those that best satisfy the pilot project and MAP-21 qualification criteria and possess the capability and capacity to aid in testing a variety of scenarios.

PHMSA intends that any pilot conducted under the authority granted by MAP-21 will study the performance, safety and security impacts, and associated benefits and costs of using e-systems for HM shipments, without disrupting the normal flow of commerce. Further, hardcopy shipping documents will still be required to accompany each shipment during the pilot projects, in accordance with the HMR.

PHMSA will conduct pilot tests in three, and potentially four, regions of the U.S.: the Northeast, Southeast, Northwest, and Southwest, with at least one pilot test conducted in a rural area within one or more of the regions, as prescribed by MAP-21. PHMSA will focus the pilot tests in geographical regions possessing high concentrations of HM registrants and presenting historically high numbers of HM incidents resulting in deaths and injuries.

Law Enforcement and Emergency Response Volunteers

Desired law enforcement and emergency responder pilot test participants are those willing to assist in the collection of information during the inspection and emergency response simulations and who operate within the regions of the pilot tests where the participating shippers and carriers operate.

Shipper and Carrier Volunteers

Desired shipper and carrier pilot test participants are those who offer HM for transportation and/or transport HM by a variety of modes and interact with other intermodal carriers for HM transfers. It is not PHMSA's intention to test vendors of electronic communication technologies or products. To volunteer and be selected as a volunteer, interested shipper and carrier participants will need to ship and/or transport HM within areas of high concentrations of HM registrants and HM incidents. In addition to the regions and modal criteria, potential participants must, at a minimum, satisfy the following requirements:

• Possess e-system(s) capable of managing and communicating the HM shipping paper information at their own expense,

• Possess their own equipment and personnel and/or contractor resources necessary to transport HM shipments,

• Be willing to allow, and participate in, inspections and emergency response simulations during the pilot tests,

• Be willing to provide feedback on experiences regarding e-HM communication during the pilot tests, including providing actual e-HM communications data from the pilot tests,

• Be willing to provide information on the basic function and capabilities of their e-system(s),

• Be willing to provide information on administrative, business, training, equipment, and operational-related benefits and costs associated with implementing e-system(s),

• Transport HM within the targeted test regions of the U.S., and

• Be in good standing with all levels of government and demonstrate compliance with all applicable regulations governing the safe and secure transportation of HM.

As part of PHMSA's participant evaluation and selection process, each shipper and carrier submitting a statement of interest will need to answer on-line the following list of 34 questions to verify its qualifications and capabilities (Note: The majority of these questions require only a “yes” or “no” response.):

Shipper and Carrier Participant Questions

1. Name of company/organization.

2. Point(s) of contact (POC(s)) information.

3. Is your company/organization a shipper, a carrier, or both?

4. Is your company/organization willing to participate in the pilot tests for a period of 8 to 12 weeks in 2014 (specific period to be determined)?

5. Does your company/organization understand that answering these selection questions does not guarantee your company/organization will be selected for participation in the pilot tests (volunteers will be selected based on meeting qualifications specified in MAP-21 and the ability to aid in testing a variety of test scenarios and criteria)?

6. Is your company/organization able to identify a single POC for coordinating your company's/organization's participation in the pilot tests?

7. Is your company/organization willing to provide a coordinating representative to participate in a pre-pilot coordination and training meeting in Washington DC prior to implementation of the pilot tests?

8. Is your company/organization willing to provide a coordinating representative to participate in a one-day debriefing meeting in Washington DC in 2014 following the conclusion of the pilot tests (actual date to be determined)?

9. Does your company/organization have videoconference capability?

10. Is your company/organization willing to allow, and participate in, inspections and emergency response simulations during the pilot tests?

11. Is your company/organization willing to provide feedback on its experiences regarding paperless hazardous materials (e-HM) communication during the pilot tests, including actual e-HM communications data from your company's/organization's participation in the pilot tests and information on administrative, business, training, equipment, and operational-related costs and benefits associated with implementing e-HM systems?

12. Do you understand that PHMSA will use the information you provide in this questionnaire as part of PHMSA's public report to Congress, Federal agencies, and other stakeholders, in support of the Moving Ahead for Progress in the 21st Century Act (MAP-21)? (Note: Although your company/organization will be referenced by a unique ID No. in the report, PHMSA cannot guarantee that the name of your company/organization will be kept confidential.)

13. For which U.S. geographic pilot test area(s) is your company/organization volunteering to participate?

14. Do any of your company's/organization's HM shipments that could be included in the pilot tests cross international borders during transport (U.S. and Canadian border, U.S. and Mexican border, travel via plane or ship to other international locations)?

15. Please describe the transport route(s), from origin to final destination, for the HM your company/organization will include in the pilot tests. Include city and state information, along with the general location(s) of any planned stops/layovers, including transfer points.

16. Does your company/organization utilize an outside company to assist with HM information and emergency response communication?

17. Does your company/organization currently have a paperless HM communications system (e-system) capable of managing and communicating the HM shipping paper information?

18. How many different e-systems is your company/organization capable of utilizing for communicating HM shipping paper information?

19. What electronic and wireless technology(ies) are used by your e-system?

20. What type of electronic data exchange format is used by your e-system?

21. In what format(s) can your e-HM shipping paper information be exported?

22. Is your company's/organization's e-system scalable (i.e., able to expand if the amount of information increases)?

23. Does the e-system have built-in security protocols for data protection?

24. Has your company/organization established administrative rights for the e-system?

25. Does the e-system have system redundancy or backup systems?

26. Has your company/organization ever used wireless or electronic communication to provide law enforcement or emergency response personnel with HM information for an HM shipment involved in an inspection or incident?

27. Can e-HM shipping information be accessed during transport (in the field) in real-time?

28. What class(es) of HM would your company/organization ship during the pilot tests?

29. Is your company/organization willing to include multiple shipments in the pilot tests?

30. By what mode would your company/organization transport HM during the pilot tests?

31. Does your company/organization interact with other intermodal carriers for HM transfers?

32. Is your company/organization capable of testing less than truckload (LTL) HM shipments during the pilot tests?

33. Does your company/organization transport HM shipments utilizing your own equipment and personnel, or contractor resources?

34. Does your company/organization interact with freight forwarders and/or brokers as part of your normal business of transporting HM shipments?

6. Request for Information (Following Selection of Pilot Test Participants)

PHMSA is seeking to collect: (1) Information and data as part of the pilot tests to support evaluation of the use of e-shipping papers; and (2) data and information outside of the pilot tests for analyzing potential impacts (safety, security, benefits, and costs) of using e-systems.

PHMSA understands that this information collection effort may impose a burden on respondents. The information obtained will:

• Assist the agency in improving safety, hazard communication products, and/or hazard communication materials, and in potentially reducing current burden hours for completing shipping papers;

• Be provided strictly on a voluntary basis; and

• Be collected primarily utilizing on-line questions with answers to most questions designed to be “yes,” “no,” or multiple choice.

Volunteer modal inspectors and emergency responders will be responsible for conducting inspection and emergency response simulations and the majority of the data collection during the pilot tests. This approach limits the information collection burden on regulated entities while minimizing information bias. Modal inspectors (typically law enforcement) will test the feasibility and effectiveness of e-systems by performing simulated modal inspections of regulated entities (shippers and carriers) participating in the pilot tests utilizing e-HM shipping papers. The inspectors will conduct each simulation following their established inspection protocols using their own existing equipment and resources. The only difference during the simulations will be that the shipping paper information will be communicated electronically. Following each inspection simulation, the participating inspector will answer a list of on-line questions related to the simulation and submit to PHMSA a copy of the e-HM shipping paper received. Emergency responders will follow a similar process to test the feasibility and effectiveness of e-systems during a simulated incident response involving HM shipments using e-HM shipping papers. PHMSA will use the answers to the on-line questions and the e-HM shipping papers provided by the inspectors and emergency responders to evaluate the feasibility and effectiveness of the e-system involved in the information transfer.

Outside of the pilot tests, information will be collected from shippers, carriers, law enforcement, and emergency responders to aid in the assessment of potential impacts associated with using e-systems for each mode of transportation, as required under MAP-21. Potential impacts to be assessed include benefits, costs, safety, and security impacts on the public, emergency responders, and law enforcement. The impact analysis questions will not be limited to pilot test participants but will be available to all HM stakeholders to voluntarily answer.

The following sections summarize the types of information that will be requested as part of the pilot program to ensure that the evaluation and feasibility report focuses on results and includes quantitative data on the recommendation and possible implementation of e-systems into the Federal HM transportation safety program. This information and data will enable PHMSA to more accurately assess the safety and security impacts of using e-systems and to analyze the associated benefits and costs of using e-systems for HM communication.

Shipper and Carrier Information

Shippers and carriers will not be required to answer the list of on-line inspection and emergency response simulation questions described in the next section as part of the pilot project. However, PHMSA does anticipate that the information provided by modal inspectors and emergency responders in conducting the simulations may necessitate follow-up discussions with the shippers and/or carriers involved. Limited information may need to be collected from shippers and carriers as a result of these follow-up discussions, potentially including obtaining copies of the e-HM shipping papers used during the simulations.

Inspection Simulation Questions

For each HM inspection simulation, inspectors (law enforcement and/or Federal and state modal inspectors) involved in the simulation will be requested to answer the following list of 44 online inspection simulation questions and to provide an electronic copy of the HM shipping paper they received during the simulation. Analysis of the e-HM shipping papers for required hazard communication information will enable PHMSA to verify the integrity of the data transfer.

1. Name of inspection agency/organization you are representing.

2. Main location of inspection agency/organization.

3. Affiliation of your inspection agency/organization.

4. Point of Contact (POC) information for the inspector conducting the inspection simulation.

5. POC information for your inspection agency's/organization's paperless hazardous materials (e-HM) communication system (e-system).

6. Describe the size and geographic parameters of your agency's/organization's jurisdiction.

7. Which transportation mode(s) does your agency/organization inspect?

8. How often are inspections conducted?

9. In general, what percentage of inspections is pre-planned (e.g., at a checkpoint, waystation, etc.), and what percentage is impromptu (e.g., based on potential safety risk posed by an observed transportation conveyance)?

10. Approximately how many conveyance inspections does your agency/organization perform annually?

11. Name and USDOT Number of shipper and/or carrier inspected.

12. POC information for the driver/pilot/captain/conductor involved in the inspection simulation.

13. POC information for the shipper's and/or carrier's e-system.

14. Location of inspection simulation.

15. Date and time of inspection simulation.

16. Was the inspection pre-scheduled or unannounced (with respect to notifying the HM shipper/carrier)?

17. What type(s) of transportation conveyances were inspected during the simulation?

18. Did the inspector have any interaction with other regulatory inspection entities (e.g., U.S. Coast Guard, Customs and Border Protection, etc.) during HM inspection simulation activities?

19. What types of HM information was shared with these regulatory entities?

20. Was an attempt made to communicate any of this information electronically?

21. Describe the simulated pilot test HM conveyance inspection:

a. What was reason for the simulated inspection?

b. What HM information did the inspector look for or request?

c. Did the inspection include interviews?

d. What conveyance documentation did the inspector review?

22. What types of HM containers were included in the shipment?

23. What class(es) of HM did the shipment being inspected include?

24. Had the shipment undergone any intramodal transfers (i.e., transfers between conveyances within a single transportation mode) prior to the simulation?

25. If the shipment had undergone intramodal transfers:

a. What HM information was shared?

b. By what mechanism was such information communicated:

26. Had the shipment undergone any intermodal transfers (i.e., transfers between transportation modes) prior to the simulation?

27. If the shipment had undergone intermodal transfers:

a. What HM information was shared?

b. By what mechanism was such information communicated:

28. Was the shipment involved in the simulation a less than truckload (LTL) type HM shipment?

29. What device(s), electronic data exchange language, communication mechanism(s), and data format did inspectors use when conducting the simulated inspection?

30. What device(s) and electronic data exchange language did the shipper/carrier use to transmit the electronic shipping papers during the simulated inspection?

31. Was the inspection simulation information collected electronically?

32. How long did it take for the inspector to receive the electronic information from when it was requested?

33. Did the inspector review the HM data received during the simulation for accuracy and completeness?

34. Did the electronic information match that recorded on the hardcopy shipping paper?

35. Did the HM information accurately reflect the details of the HM being transported?

36. Did your agency/organization identify any e-system impediments/limitations during the simulation?

37. Did your agency/organization identify any benefits related to the following e-system components during the simulation?

38. Was the information included within the electronic transmittal sufficient to determine a failed or passed inspection?

39. How do you feel the e-information satisfied the required HM paper documentation (e.g., shipping paper, transportation of dangerous goods manifest, bill of lading, notification to pilot in command, etc.)?

40. What training, if any, is needed to conduct electronic transfers of information for inspections?

41. What additional equipment, if any, is needed to conduct electronic transfers of information for inspections?

42. Do you have any lessons learned that should be considered for improvement of e-commerce?

43. What benefits do you think an e-system would offer over a paper-based system for your agency/organization?

44. How do you believe e-systems will affect the time to conduct an inspection?

Emergency Response Simulation Questions

For each HM emergency response simulation, emergency response providers and/or investigators involved in the simulation will be requested to answer the following list of 42 online emergency response simulation questions and provide an electronic copy of the HM shipping paper as received during the simulation. Analysis of the e-HM shipping papers for required hazard communication information will enable PHMSA to verify the integrity of the data transfer.

1. Name of emergency response agency/organization you are representing.

2. Location of emergency response agency/organization.

3. Point of Contact (POC) information for the responder conducting the emergency response simulation.

4. POC information for your emergency response agency's/organization's paperless hazardous materials (e-HM) communication system (e-system).

5. Describe the size and geographic parameters of your agency's/organization's jurisdiction.

6. How often does your agency/organization respond to HM incidents?

7. Approximately how many transportation HM incidents does your agency/organization respond to annually?

8. Which transportation mode(s) has your agency/organization responded to for an HM incident in the past year?

9. Does your agency/organization utilize an outside company to assist with HM information and emergency response communication?

10. What is the name of the Public Safety Answering Point (PSAP) which has jurisdiction for the location of the emergency response simulation?

11. Location of responsible PSAP.

12. POC information for the responsible PSAP.

13. Name of shipper and/or carrier involved in the emergency response simulation.

14. POC information for the driver/pilot/captain/conductor involved in the emergency response simulation.

15. POC information for the shipper's and/or carrier's e-system.

16. Location of emergency response simulation.

17. Date and time of emergency response simulation.

18. What type(s) of transportation conveyances were involved in the emergency response simulation?

19. What emergency response entities participated in the emergency response simulation?

20. Describe the HM pilot test simulation:

a. What was the simulated event?

b. Which emergency response entity was contacted first, and by whom?

c. Which first responder agency/organization arrived on the scene first?

d. Did a dispatcher perform any follow-up activities (e.g., obtaining additional information from a shipper regarding an HM that may be involved in the simulation) to the initial call?

21. What class(es) of HM were transported during the simulation?

22. Was the shipment involved in the simulation a less than truckload (LTL) type HM shipment?

23. Describe the electronic data exchange that occurred with the PSAP dispatcher as part of the HM pilot test simulation:

a. What HM information did the PSAP dispatcher immediately request?

b. Was information transmitted electronically to the PSAP dispatcher?

24. What device(s) and electronic data exchange language were used to transmit the information to the PSAP dispatcher during the HM simulation?

25. What device(s), electronic data exchange language, communication mechanism(s), and data format were used by the PSAP dispatcher to receive the information during the HM simulation?

26. Describe the electronic data exchange that occurred with the emergency responders prior to their arrival at the scene as part of the HM pilot test simulation:

a. Was HM information provided electronically to the emergency responders prior to their arrival at the scene by the driver/pilot/captain/conductor?

b. Was HM information provided electronically to the emergency responders prior to their arrival at the scene by the PSAP dispatcher?

c. Was HM information provided electronically to the emergency responders prior to their arrival at the scene by the shipper?

d. Was HM information provided electronically to the emergency responders prior to their arrival at the scene by the carrier?

e. Was HM information provided electronically to the emergency responders prior to their arrival at the scene by a source other than the driver/pilot/captain/conductor, PSAP dispatcher, shipper, or carrier?

27. Describe the electronic data exchange that occurred with the emergency responders at the scene as part of the HM pilot test simulation:

a. Was HM information provided electronically to the emergency responders at the scene by the driver/pilot/captain/conductor?

b. Was HM information provided electronically to the emergency responders at the scene by the PSAP dispatcher?

c. Was HM information provided electronically to the emergency responders at the scene by the shipper?

d. Was HM information provided electronically to the emergency responders at the scene by the carrier?

e. Was HM information provided electronically to the emergency responders at the scene by a source other than the driver/pilot/captain/conductor, PSAP dispatcher, shipper, or carrier?

28. Was the information collected electronically by the emergency responders during the HM simulation?

29. If electronic information was provided to the PSAP dispatcher during the HM simulation, how long did it take for the PSAP dispatcher to receive the information from the time it was first requested?

30. If electronic information was provided to emergency responders during the HM simulation, how long did it take for the emergency responders to receive the electronic information from the time it was first requested?

31. Did the emergency responders review the HM data received during the simulation for accuracy and completeness?

32. Did the electronic information match that recorded on the hardcopy shipping paper?

33. Did the HM information accurately reflect the details of the HM being transported?

34. Did your agency/organization identify any e-system impediments/limitations during the HM simulation?

35. Did your agency/organization identify any benefits related to the following e-system components during the HM simulation?

36. Was the information included within the electronic transmittal sufficient, and equivalent to the hardcopy shipping paper, to identify the hazards and properly respond to the HM simulation?

37. How do you feel the e-information satisfied the required HM paper documentation (e.g., shipping paper, transportation of dangerous goods manifest, bill of lading, notification to pilot in command, etc.)?

38. What training, if any, is needed to conduct electronic transfers of information for responders?

39. What additional equipment, if any, is needed to conduct electronic transfers of information for emergency response?

40. Do you have any lessons learned that should be considered for improvement of the use of e-shipping papers in HM commerce?

41. What benefits do you think an e-system would offer over a paper-based system for your agency/organization?

42. How do you believe e-systems will impact the time to respond to an HM incident?

Impact Analysis Questions

PHMSA is seeking to collect information and data from shippers, carriers, law enforcement, and emergency responders to aid in the assessment of potential impacts associated with using e-systems for each mode of transportation, as required under MAP-21. Potential impacts to be assessed include benefits, costs, safety, and security impacts on the public, emergency responders, and law enforcement. Similar to the pilot test simulation questions, PHMSA has developed the following list of 60 impact analysis questions to be administered on-line. PHMSA anticipates the list of impact analysis questions will not be limited to pilot test participants but will be available to all HM stakeholders to voluntarily answer.

1. Name of the agency/company/organization you are representing.

2. Location of the agency/company/organization.

3. Point of Contact (POC) information for the person completing this questionnaire.

4. POC information for your agency's/company's/organization's paperless hazardous materials (e-HM) communication system (e-system).

5. Which category describes your agency/company/organization?

6. With what mode(s) of transportation does your agency/company/organization interact?

7. Describe the size (small, medium, large) of your agency/company/organization.

8. Does your agency/company/organization perform domestic (i.e., within the U.S.) commerce?

9. Does your agency/company/organization perform international commerce?

10. Does your agency/company/organization belong to any chemical and/or transportation industry associations?

11. Are personnel at your agency/company/organization familiar with the look and content of an HM shipping paper?

12. Do you understand that PHMSA will use the information you provide in this questionnaire as part of PHMSA's public report to Congress, Federal agencies, and other stakeholders, in support of the Moving Ahead for Progress in the 21st Century Act (MAP-21)? (Note: Although your agency/company/organization will be referenced by a unique ID No. in the report, PHMSA cannot guarantee that the name of your agency/company/organization will be kept confidential.)

13. What class(es) of HM does your company ship?

14. By what mode(s) does your company transport HM?

15. Does your company interact with other intermodal carriers for HM transfers?

16. For each mode used to transport HM shipments, does your company utilize your own equipment and personnel, or contractor resources?

17. Does your company transport less than truckload (LTL) HM shipments?

18. How are your HM shipments packaged?

19. Approximately how much HM does your company ship annually?

20. Does your agency/company/organization utilize an outside company to assist with HM information and emergency response communication?

21. What HM information is essential for emergency responders to receive to assess the hazards and to properly respond to an HM incident after arriving at the emergency site?

22. What HM information is essential for HM inspectors to receive to properly conduct an HM inspection?

23. Does your agency/company/organization currently have an e-system capable of managing and communicating HM shipping paper information?

24. Does the e-system use or contain any proprietary data or have any special licensing requirements governing its use?

25. Is the e-system custom-made or commercial off-the-shelf (COTS)?

26. What electronic and wireless technologies are used by your e-system?

27. Does your agency/company/organization currently have electronic access to conveyance HM data satisfying the DOT shipping paper requirements?

28. What type of electronic data exchange language is used?

29. What format can be used to view and share the data?

30. Is your agency's/company's/organization's e-system scalable (i.e., able to expand if the amount of information increases)?

31. If your agency's/company's/organization's e-system fails during an inspection or emergency, is a backup system/procedures available to ensure continuity of information?

32. Who enters HM information into your agency's/company's/organization's e-system?

33. How long is the HM information stored in your agency's/company's/organization's e-system after its initial generation?

34. When can the HM information in your agency's/company's/organization's e-system be accessed?

35. Who can access the HM information in your agency's/company's/organization's e-system?

36. Has your company ever used wireless or electronic communication to provide law enforcement or emergency response personnel with HM information for an HM shipment involved in an inspection or incident?

37. On average, how long does it take to complete a hardcopy HM shipping paper?

38. On average, how long does it take to complete an e-shipping paper?

39. Do you use HM shipping papers for purposes other than regulatory?

40. Has your agency/organization ever received wireless or electronic communication of HM information for an HM shipment involved in an inspection or incident?

41. What technology readiness level from the following list best describes the technology used to operate your e-HM system?

a. Level 5: technology product fully operational in real-world environment

b. Level 4: technology product operational in limited real-world environment

c. Level 3: prototype demonstrated in laboratory environment

d. Level 2: equipment and process concept formulated

e. Level 1: basic technology principles observed

42. Can your agency/company/organization provide a rounded estimation of the costs to develop, implement, operate, and maintain the e-system?

43. Do your agency's/company's/organization's employees receive training on the e-system?

44. How long does the training generally take to complete?

45. Is refresher training provided?

46. How long does refresher training typically take to complete?

47. Are all/most employees who receive initial e-system training provided with refresher training?

48. Can your agency/company/organization provide a rounded estimation of the costs for training personnel on the e-system?

49. Did your agency/company/organization incorporate a customer outreach/education program as part of implementation of your e-system?

50. Can your agency/company/organization provide a rounded estimation of the costs to conduct customer outreach/education on your e-system?

51. What types of security is in place to prevent unauthorized e-system access?

52. Which of the following entities outside your agency/company/organization directly utilize your e-system?

53. What type of involvement and input did these stakeholders have in the design and development of your e-system?

54. If your agency/company/organization has an e-system:

a. What constraints did the e-system have to overcome to be successfully used by your agency/company/organization?

b. What benefits does the e-system offer over a paper-based system?

c. What benefits resulted from your agency's/company's/organization's customer outreach/education efforts regarding your e-system?

d. What constraints did your agency/company/organization need to overcome during customer outreach/education regarding your e-system?

55. If your agency/company/organization does not have an e-system:

a. What constraints would an e-system have to overcome to be successfully used by your agency/company/organization?

b. What benefits would an e-system offer over a paper-based system?

56. Has your agency/company/organization performed any studies/analyses on the effectiveness of your e-system, including the e-system's impacts on your agency/company/organization?

57. What can improve your e-system's capability?

58. With respect to real-work application, has your agency/company/organization observed any positive or negative interactions between your e-system technology and other e-system technologies?

59. Has your agency/company/organization identified any e-system impediments/limitations?

60. Do you have any lessons learned that should be considered for improvement of e-commerce?

7. Total Information Collection Burden

The total information collection burden for the Paperless Hazard Communication Pilot Program is as follows:

Shipper and Carrier Participant Questions: 55 Respondents × 0.5 Hr. = 27.5 Hours

73 entities responded with their interest to participate in the pilot tests. Of these 73, 52 appear to be shippers, carriers, universities, associations, unions, consultants, technology vendors, and unknowns; i.e., all respondents who could potentially act in a shipper and/or carrier capacity. The other 21 entities expressing interest in participating in the pilot appear to be law enforcement and emergency responders. PHMSA is estimating a maximum of 55 participants (52 previously indicated plus three additional, to account for any other respondents who may act in a shipper/carrier capacity) will complete the pilot test participant questions. The 55 respondent estimate has been increased by 25 from the original 30 estimate posted in the 60-Day Notice based on the number of entities who commented to the 60-Day Notice and indicated they wish to participate in the pilot tests. PHMSA does not anticipate that completing the pilot test participant questions will impose a significant burden on shipper and carrier respondents. PHMSA estimates it will take each respondent approximately 30 minutes to answer the list of participant questions, based on the type of questions identified in the following table:

Type of question | Number
Yes/No | 20
Yes/No + text | 1
Multiple choice | 2
Multiple choice + text | 1
Select all that apply | 4
Select all that apply + text | 3
Text | 3
Total number of pilot test participant questions | 34

The resulting estimated total burden is 27.5 hours (55 respondents × 0.5 hour per respondent = 27.5 hours) for the shipper and carrier participant question data collection.

Shipper and Carrier Information: 40 Respondents × 4.0 Hr. = 160 Hours

PHMSA does not anticipate that follow-up discussions with shippers and carriers and the associated information collection will impose a significant burden on respondents. In the 60-Day Notice, PHMSA anticipated a total of 30 shippers and carriers (assuming 10 respondents for each of three test regions) and a burden of no more than four hours per shipper and carrier for the entirety of the test period; however, based on the number of entities who commented to the 60-Day Notice and indicated they wish to participate in the pilot tests, PHMSA has increased its estimate to 40 shippers and carriers for this information collection activity. The resulting estimated total burden is 160 hours (40 respondents x 4.0 hour per respondent = 160 hours) for follow-up discussions and associated information collection with shippers and carriers.

Inspection Simulation Questions: 260 Respondents × 1.0 Hr. = 260 Hours

PHMSA does not anticipate that answering the list of inspection simulation questions will impose a significant burden on inspectors. PHMSA anticipates no more than 260 inspection simulations will be conducted utilizing non-federal resources (encompassing all pilot tests, all participants, and each test region throughout the entirety of the test period), resulting in a total of 260 respondents. The 260 respondent estimate has been increased by 20 from the original 240 estimate posted in the 60-Day Notice based on the number of inspectors who commented to the 60-Day Notice and indicated they wish to participate in the pilot tests. PHMSA estimates it will take each inspector approximately 60 minutes to answer the list of inspection simulation questions, based on the type of questions identified in the following table, and to submit a copy of the e-HM shipping paper to PHMSA.

Type of question | Number
Yes/No | 1
Yes/No + text | 7
Multiple choice | 5
Multiple choice + yes/no | 1
Multiple choice + text | 8
Select all that apply | 2
Select all that apply + text | 8
Text | 12
Total number of inspection simulation questions | 44

The resulting estimated total burden is 260 hours (260 respondents x 1.0 hour per respondent = 260 hours) for the inspection simulation question data collection.

Emergency Response Simulation Questions: 24 Respondents × 1.0 Hr. = 24 Hours

PHMSA does not anticipate that answering the list of emergency response simulation questions will impose a significant burden on investigators and emergency responders. PHMSA anticipates no more than 12 emergency response simulations will be conducted utilizing non-Federal resources, resulting in a total of no more than 24 respondents allowing for up to two respondents per simulation (12 emergency response providers and 12 investigators). PHMSA estimates it will take each respondent approximately 60 minutes to answer the list of emergency response simulation questions, based on the type of questions identified in the following table, and to submit a copy of the electronic shipping paper to PHMSA.

Type of question | Number
Yes/No | 1
Yes/No + text | 5
Multiple choice | 4
Multiple choice + text | 5
Select all that apply | 2
Select all that apply + text | 10
Text | 15
Total number of emergency response simulation questions | 42

The resulting estimated total burden is 24 hours (24 respondents × 1.0 hour per respondent = 24 hours) for the emergency response simulation question data collection.

Impact Analysis Questions: 250 Respondents x 1.5 Hr. = 375 Hours

PHMSA does not anticipate that answering the list of impact analysis questions will impose a significant burden on respondents (shippers, carriers, law enforcement, and emergency responders). PHMSA increased its original estimate posted in the 60-Day Notice from 200 to 250 respondents based on the number of entities who provided comments to the 60-Day Notice. PHMSA estimates no more than 250 respondents will complete the impact analysis questions, and that it will take each respondent approximately 90 minutes to answer the questions.

Type of question | Number
Yes/No | 1
Multiple choice | 16
Multiple choice + text (+ yes/no) | 16
Select all that apply | 5
Select all that apply + text (+ yes/no) | 15
Text | 7
Total number of impact analysis questions | 60

The resulting estimated total burden is 375 hours (250 respondents x 1.5 hours per respondent = 375 hours) for the impact analysis question data collection.

Total Information Collection Burden: 629 Respondents 846.5 Hours

Title: Paperless Hazard Communications Pilot Program.

Type of Request: Request for Comments to Information Collection Burden for Paperless Hazard Communications Pilot Program.

Abstract: PHMSA is submitting an information collection to OMB in support of a paperless hazard communications pilot program under Title III, Section 33005 of the Hazardous Materials Transportation Safety Improvement Act of 2012 (MAP-21).

Affected Public: Carriers, Shippers, Emergency Response Providers, and Law Enforcement Personnel

Estimated Number of Respondents: 629.

Estimated Number of Responses: 629.

Estimated Annual Burden Hours: 846.5.

Estimated Annual Burden Costs: $28,500.

Frequency of collection: Single occasion.

Magdy El-Sibaie,
Associate Administrator for Hazardous Materials Safety.

[FR Doc. 2013-28168 Filed 11-22-13; 8:45 am]

BILLING CODE 4910-60-P